DEPARTMENT OF EDUCATION

34 CFR Part 200

Office of Elementary and Secondary Education; Title I of the Elementary and Secondary Education Act of 1965, as Amended (ESEA); Improving the Academic Achievement of the Disadvantaged

AGENCY: Department of Education.

ACTION: Notice of meetings to solicit public comment on proposed regulations.

SUMMARY: The Assistant Secretary for Elementary and Secondary Education (Assistant Secretary) of the Department of Education (Department) will convene five regional meetings to solicit additional public comment on the Department's Notice of Proposed Rulemaking (NPRM) published elsewhere in this issue of the Federal Register. The NPRM would implement recent changes made by the No Child Left Behind Act of 2001 (NCLB Act) to the standards and assessment requirements under Title I of the Elementary and Secondary Education Act of 1965, as amended (ESEA). The proposed regulations were subjected to a negotiated rulemaking process, and we invited the public to submit comments on them. The Assistant Secretary is convening these regional meetings to provide the public additional opportunities to comment on the proposed regulations.

DATES: We will hold five regional meetings as listed in the Schedule of Regional Meetings under SUPPLEMENTARY INFORMATION.

ADDRESSES: We will hold the five regional meetings at the locations listed in the Schedule of Regional Meetings under SUPPLEMENTARY INFORMATION.

FOR FURTHER INFORMATION CONTACT: Susan Wilhelm, Compensatory Education Programs, Office of Elementary and Secondary Education, U.S. Department of Education, 400 Maryland Avenue, SW., room 3W202, Washington, DC 20202-6132. Telephone (202) 260-0826.

If you use a telecommunications device for the deaf (TDD), you may call the Federal Information Relay Service (FIRS) at 1-800-877-8339.

Individuals with disabilities may obtain this document in an alternative format (e.g., Braille, large print, audiotape, or computer diskette) on request to the contact person listed under FOR FURTHER INFORMATION CONTACT.

The meeting sites are accessible to individuals with disabilities. If you need an auxiliary aid or service to participate in the meetings (e.g., interpreting service, assistive listening device, or materials in alternative format), notify the contact person listed in this notice in advance of the scheduled meeting date. We will make every effort to meet any request we receive.

The regional meetings are open to the public.

SUPPLEMENTARY INFORMATION:

Schedule of Regional Meetings

We will hold five regional meetings to solicit public comment on the NPRM on the following dates at the following locations:

1. May 6, 2002, 9 a.m. to 5:15 p.m., Holiday Inn Cincinnati Airport, 1717 Airport Exchange Boulevard, Erlanger, Kentucky.

2. May 7, 2002, 9 a.m. to 5:15 p.m., Sheraton Atlanta, 165 Courtland Street, Atlanta, Georgia.

3. May 13, 2002, 9 a.m. to 5:15 p.m., The Westgate Hotel, 1055 Second Avenue, San Diego, California.

4. May 16, 2002, 9 a.m. to 5:15 p.m., Doubletree Hotel Little Rock, 424 West Markham, Little Rock, Arkansas.

5. May 30, 2002, 9 a.m. to 5:15 p.m., LaGuardia Marriott, 102-05 Ditmars Boulevard, East Elmhurst, New York.

Background

On January 8, 2002, President George W. Bush signed the NCLB Act, amending the ESEA. The NCLB Act incorporated major education reforms proposed by the President in his No Child Left Behind initiative, particularly in the areas of assessment, accountability, and school improvement. Among other things, the NCLB Act reauthorizes—for a six-year period—the programs under Title I of the ESEA (Title I programs), which are designed to help disadvantaged children reach high academic standards.

Section 1901 of Title I of the ESEA contains procedures that the Department must follow in developing and issuing regulations to govern the Title I programs. Consistent with those requirements, the Secretary obtained the advice and recommendations of representatives of Federal, State, and local administrators; parents; teachers; paraprofessionals; members of local boards of education; and other organizations involved with the implementation and operation of the Title I programs. After obtaining this advice, the Secretary conducted a negotiated rulemaking process on issues relating to Title I standards and assessment requirements. The negotiated rulemaking process produced proposed regulations on these issues that the Secretary is publishing without change in the NPRM. The preamble to the NPRM describes in more thorough detail this regulatory process.

Regional Meetings

In addition to the invitation to comment contained in the NPRM, the Assistant Secretary is offering an opportunity for the public to provide input regarding the proposed regulations at the scheduled regional meetings.

During the morning of each meeting, from 9 a.m. to 12 noon, representatives of the Department will provide background information on the statutory context for the NPRM, the negotiated rulemaking process, and the major issues that the proposed regulations are designed to address. Expert educators will also present their findings and experiences in the field of standards and assessments. During the afternoon of each meeting, from 1 p.m. to 5:15 p.m., the public will have the opportunity to offer oral or written comments, or both, on the NPRM.

Public Comments

The Department will consider all comments obtained during these regional meetings, along with all other comments submitted to the Department in response to the NPRM. During and after the comment period, you may inspect all public comments about these proposed regulations in room 3W204, FB-6, 400 Maryland Avenue, SW., Washington, DC, between the hours of 8:30 a.m. and 4 p.m., Eastern time, Monday through Friday of each week except Federal holidays.

Electronic Access to This Document

You may view this document, in Text or Adobe Portable Document Format (PDF), on the Internet at the following site: http://www.ed.gov/legislation/FedRegister.

To use PDF, you must have Adobe Acrobat Reader, which is available free at this site. If you have questions about using PDF, call the U.S. Government Printing Office toll free at 1-888-293-6498; or in the Washington, DC, area at (202) 512-1530.

Note: The official version of this document is the document published in the Federal Register. Free Internet access to the official edition of the Federal Register and the Code of Federal Regulations is available on GPO access at: http://www.access.gpo.gov/nara/index.html.

(Catalog of Federal Domestic Assistance Number: 84.010, Improving Programs Operated by Local Educational Agencies)

Program Authority: 20 U.S.C. 6301-6578.

Dated: May 1, 2002.
Susan B. Neuman,
Assistant Secretary for Elementary and Secondary Education.

[FR Doc. 02-11127 Filed 5-1-02; 2:00 pm]

BILLING CODE 4000-01-U